DEPARTMENT OF TRANSPORTATION

Federal Motor Carrier Safety Administration

[Docket No. FMCSA-2017-0006]

Agency Information Collection Activities; Revision of an Approved Information Collection: Practices of Household Goods Brokers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. FMCSA requests approval to revise an ICR titled “Practices of Household Brokers” to no longer include one-time costs previously incurred by brokers to come into compliance with applicable Federal regulations, and to update other wage related costs that have changed since the last approval. This ICR is necessary to support the requirements of applicable Federal regulations and FMCSA's responsibility to ensure consumer protection in the transportation of household goods (HHG).

DATES: We must receive your comments on or before May 15, 2017.

ADDRESSES: You may submit comments identified by Federal Docket Management System (FDMS) Docket Number FMCSA-2017-0006 using any of the following methods:

• Federal eRulemaking Portal: http://www.regulations.gov. Follow the online instructions for submitting comments.

• Fax: 1-202-493-2251.

• Mail: Docket Operations; U.S. Department of Transportation, 1200 New Jersey Avenue SE., West Building, Ground Floor, Room W12-140, Washington, DC 20590-0001.

• Hand Delivery or Courier: U.S. Department of Transportation, 1200 New Jersey Avenue SE., West Building, Ground Floor, Room W12-140, Washington, DC 20590-0001 between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Monique Riddick, Commercial Enforcement and Investigations Division, U.S. Department of Transportation, Federal Motor Carrier Safety Administration, West Building 6th Floor, 1200 New Jersey Avenue SE., Washington, DC 20590-0001. Telephone: 202-366-8045; email monique.riddick@dot.gov.

SUPPLEMENTARY INFORMATION:

Background: FMCSA amended then-existing regulations for brokers in response to Title IV, Subtitle B of the Safe, Accountable, Flexible, Efficient, Transportation Equity Act: A Legacy for Users (SAFETEA-LU) (Pub. L. 109-59) and a petition for rulemaking from the American Moving and Storage Association (AMSA). The final rule titled, “Brokers of Household Goods Transportation by Motor Vehicles,” (75 FR 72987, Nov. 29, 2010), amended 49 CFR part 371, by providing additional consumer protection responsibilities for brokers of HHG. Specifically, section 4212 of SAFETEA-LU directs the Secretary to require HHG brokers to provide individual shippers with the following information whenever a broker has contact with a shipper or potential shipper:

1. The broker's USDOT number.

2. The FMCSA booklet titled “Your Rights and Responsibilities When You Move.”

3. A list of all authorized motor carriers providing transportation of HHG used by the broker and a statement that the broker is not a motor carrier providing transportation of HHG.

The collection of information required in the referenced final rule assist shippers in their business dealings with interstate HHG brokers. The information collected is used by prospective shippers to make informed decisions about contracts, services ordered, executed, and settled. The HHG broker is often the primary contact for individual shippers and in the best position to educate shippers and prepare them for a successful move. The information collected makes that possible. It also combats deceptive business practices as the information helps enforcement personnel better protect consumers by verifying that shippers are receiving information to which they are entitled by regulation.

HHG brokers are required to provide individual shippers the “Your Rights and Responsibilities When You Move” booklet and the “Ready to Move” brochure. They have the option of providing paper copies or presenting the information through a link on their Internet Web site. The broker is required to document with signed receipts that the individual shipper was provided those materials. HHG brokers are also required to provide the list of HHG motor carriers for which it would arrange transportation to move a potential individual shipper's HHG, and that broker's identification information:

1. Assigned USDOT number; and

2. Address.

With this renewal, FMCSA makes minor revisions to the collection. First, a program adjustment of 19,522 annual burden hours is the result of the removal of first-year burden-hours that are no longer applicable. We also provide an updated estimated number of household goods brokers.

Title: Practices of Household Goods Brokers.

OMB Control Number: 2126-0048.

Type of Request: Revision of a currently approved collection.

Respondents: Brokers of Household Goods.

Estimated Number of Respondents: 543 brokers.

Estimated Time per Response: 0.25 hours per day × 240 workdays for transactions per household goods broker; 20 hours per year per broker for Web site/ad modifications; 10 hours per year per household goods broker for creating a list of carriers; 0.5 hours per month × 12 months per household goods broker for confirming required information; 0.083 hour per year × 36.8 explanations on average per household goods broker; 4 hours per year × 5 agreements per household goods broker for annual agreements through turnover; and 10 hours per year per household goods broker for disclosure and records.

Expiration Date: April 30, 2017.

Frequency of Response: On occasion.

Estimated Total Annual Burden: 70,000 hours.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: March 9, 2017.
Kelly Regal,
Associate Administrator, Office of Research and Information Technology.

[FR Doc. 2017-05260 Filed 3-15-17; 8:45 am]

BILLING CODE 4910-EX-P